DEPARTMENT OF ENERGY

Federal Energy Regulatory Commission

[Docket No. RP00-255-000]

Petal Gas Storage, L.L.C.; Notice of Request for Waiver

May 2, 2000.

Take notice that on April 27, 2000, Petal Gas Storage, L.L.C. (Petal), tendered for filing a Request for Waiver of the Internet/interactive web site requirements of the Commission's Order No. 587-I.

Petal states that it is a small company with only two active customers and relatively low volumes. Petal further states that it maintains an electronic bulletin board (EBB) for informational postings and that none of its customers have requested an interactive web site. Petal furthers states that it will agree to implement an interactive web site if its customers request it or its business changes significantly in the future.

Any person desiring to be heard or to protest said filing should file a motion to intervene or a protest with the Federal Energy Regulatory Commission, 888 First Street, NE, Washington, DC 20426, in accordance with Sections 385.214 or 385.211 of the Commission's Rules and Regulations. All such motions or protests must be filed on or before May 9, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11360 Filed 5-5-00; 8:45 am]

BILLING CODE 6717-01-M